DEPARTMENT OF HOUSING AND URBAN DEVELOPMENT

[Docket No. FR-4912-N-20]

Notice of Availability of a Draft Environmental Impact Statement for the East River Waterfront Esplanade and Piers Project in the Borough of Manhattan, City of New York, New York; Notice of Intent to Prepare Draft Environmental Impact Statement; Notice of Public Hearing; and Notice of Availability of National Historic Preservation Act Draft Programmatic Agreement

AGENCY: Office of the Assistant Secretary for Community Planning and Development, HUD.

ACTION: Notices.

SUMMARY: HUD gives notice to the public, agencies, and Indian tribes of the availability of the Draft Environmental Impact Statement (DEIS) for review and comment for the East River Waterfront Esplanade and Piers Project in the Borough of Manhattan, City of New York, New York (Proposed Action). Included also are the Notice of Public Hearing and the Notice of Availability of National Historic Preservation Act Draft Programmatic Agreement. This notice also serves as a Notice of Intent to prepare a DEIS for the Proposed Action. The DEIS and related notices were prepared by the Lower Manhattan Development Corporation, acting under its authority as the Responsible Entity for compliance with the National Environmental Policy Act of 1969 (NEPA) in accordance with 24 CFR 58.4. The Draft EIS has been prepared to satisfy the requirements of NEPA. The EIS and NEPA process also address historic preservation and cultural resource issues under section 106 of the National Historic Preservation Act (16 U.S.C. 470f). This notice is given in accordance with the Council on Environmental Quality regulations at 40 CFR parts 1500-1508. The Lower Manhattan Development Corporation (LMDC), a subsidiary of the Empire State Development Corporation (a political subdivision and public benefit corporation of the State of New York), is the lead agency. The City of New York is a cooperating agency.

DATES: Written comments on the DEIS and draft Programmatic Agreement may be submitted to LMDC but must be received by LMDC by 5 p.m. on March 19, 2007, or they will not be considered. Comments should be directed to Lower Manhattan Development Corporation, Attention: East River Waterfront Esplanade and Piers Project; One Liberty Plaza; New York, NY 10006; Telephone: (212) 962-2300; Fax: (212) 962-2431.

A public hearing on the DEIS, where comments on the DEIS may be submitted, has been scheduled for March 5, 2007. The hearing will take place from 4:30 p.m. to 8 p.m. at Pace University, Multipurpose Room, One Pace Plaza, B Level, Spruce Street Entrance, New York, NY 10037. The public hearing location is accessible to the mobility impaired; interpreter services will be available upon request. The public hearing will also serve as an opportunity for the public and interested persons to comment on the draft Programmatic Agreement for the Proposed Action that has been prepared pursuant to Section 106 of the National Historic Preservation Act and is included in the DEIS.

FOR FURTHER INFORMATION CONTACT: Requests for information about the Proposed Action or copies of the DEIS can also be directed to the LMDC: Victor J. Gallo (212) 962-2300; e-mail: Vgallo@renewnyc.com. Information about the Proposed Action will be available during regular business hours at the offices of LMDC and will be available on LMDC's Web site: www.RenewNYC.com in “Planning, Design & Development.”

SUPPLEMENTARY INFORMATION: The Proposed Action would improve a two mile portion of the East River waterfront in Manhattan and create a City-owned public open space. The area of the Proposed Action would generally encompass the waterfront, the upland area adjacent to and under the elevated Franklin Delano Roosevelt Drive and South Street extending from the Whitehall Ferry Terminal and Peter Minuit Plaza on the South to East River Park on the North, as well as Pier 15, the New Market Building pier, Pier 35, Pier 36, and Pier 42. Approximately $139,500,000 of HUD funds will be allocated for the Proposed Action.

The DEIS analyzes the Proposed Action's potential impacts on Land Use, Zoning, and Public Policy; Socioeconomic Conditions; Open Space; Shadows; Historic Resources; Urban Design and Visual Resources; Neighborhood Character; Natural Resources and Floodplain Impacts; Hazardous Materials; Waterfront Revitalization; Infrastructure, Solid Waste and Energy; Traffic and Transportation; Air Quality; Noise; Construction Impacts; and Environmental Justice. The DEIS considers a reasonable range of alternatives including a no action alternative, esplanade development alternatives, Battery Maritime Building plaza alternatives, an alternative without the BMB plaza and the Pier 42 beach, alternative in-water configurations south of Pier 15, and an alternative retaining a portion of the automobile parking beneath the FDR Drive.

A Notice of Intent, Notice of Public Scoping Meeting and Public Comment Period, and other related notices were previously published in the New York Environmental Notice Bulletin, AM New York, the New York Post, Hoy and Sing Tao on March 22, 2006. Although the Notice of Intent was not published in the Federal Register at that time, LMDC distributed the notice to relevant federal, state and local agencies as well as potentially interested persons. The public scoping meeting, where comments on the draft scope of work were accepted, was held on April 11, 2006. Comments on the draft scope of work were accepted through April 27, 2006. A final scope of work was adopted by LMDC on June 7, 2006, and is available to the public as set forth above under the heading FOR FURTHER INFORMATION CONTACT. Notice of LMDC's intent to prepare the DEIS and the availability of the DEIS have been combined in this notice to meet both local land use review timeframes and the procedural requirements of 40 CFR parts 1500-1508.

This notice has been prepared by LMDC. The certifying officer is LMDC's chairman, Kevin M. Rampe. Questions may be directed to the individual named in this notice under the heading FOR FURTHER INFORMATION CONTACT above.

Dated: February 6, 2007.
Pamela H. Patenaude,
Assistant Secretary for Community Planning and Development.

[FR Doc. E7-2202 Filed 2-8-07; 8:45 am]

BILLING CODE 4210-67-P